DEPARTMENT OF THE INTERIOR

Fish and Wildlife Service

[FWS-R9-IA-2010-N135]

[96300-1671-0000-P5]

Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless a Federal permit is issued that allows such activities. The ESA laws require that we invite public comment before issuing these permits.

DATES: We must receive requests for documents or comments on or before August 2, 2010.

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION:

I. Public Comment Procedures

A. How Do I Request Copies of Applications or Comment on Submitted Applications?

Send your request for copies of applications or comments and materials concerning any of the applications to the contact listed under ADDRESSES. Please include the Federal Register notice publication date, the PRT-number, and the name of the applicant in your request or submission. We will not consider requests or comments sent to an e-mail or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I Review Comments Submitted by Others?

Comments, including names and street addresses of respondents, will be available for public review at the address listed under ADDRESSES. The public may review documents and other information applicants have sent in support of the application unless our allowing viewing would violate the Privacy Act or Freedom of Information Act. Before including your address, phone number, e-mail address, or other personal identifying information in your comment, you should be aware that your entire comment—including your personal identifying information—may be made publicly available at any time. While you can ask us in your comment to withhold your personal identifying information from public review, we cannot guarantee that we will be able to do so.

II. Background

To help us carry out our conservation responsibilities for affected species, the Endangered Species Act of 1973, section 10(a)(1)(A), as amended (16 U.S.C. 1531 et seq.), and our regulations in the Code of Federal Regulations (CFR) at 50 CFR 17, require that we invite public comment before final action on these permit applications.

III. Permit Applications

Endangered Species

Applicant: Richard Miller, University of Michigan, Ann Arbor, MI; PRT- 10836A

The applicant requests a permit to acquire from Coriell Institute of Medical Research, Camden, NJ, in interstate commerce, fibroblast cell line cultures from various primate species including, bonobos (Pan paniscus), chimpanzees (Pan troglodytes), gorillas (Gorilla gorilla), orangutans (Pongo spp.), gibbons (Hylobatidae), lemurs (Lemuridae), spider monkeys (Ateles geoffroyi frontus and A. g. panamensis), Goeldi's marmoset (Callimico goeldii), red-capped mangabey (Cerecocebus torquoatus), L'Hoest's monkey (Cercopithecus lhoesti), aye-aye (Daubentonia madagascariensis), lion-tailed macaque (Macaca silenus), mandrill (Mandrillus sphinx), drill (Mandrillus leucophaeus), proboscis monkey (Nasalis larvatus), and langurs (Semnopithecus entellus and Trachypithecus francoisi), for the purpose of scientific research. This notification covers activities to be conducted by the applicant over a 5-year period.

Applicant: University of Utah, Salt Lake City, UT; PRT-08996A

The applicant requests a permit to import hair, teeth, and bone samples from cheetah (Acinonys jubatus), leopard (Panthera pardus), black rhinoceros (Diceros bicornis), giant sable antelope (Hippotragus niger variani), crested mangabey (Cercocebus galeritus), and Tana River red colobus (Piliocolobus rufomitratus) from Kenya Wildlife Service for the purpose of scientific research. This notification covers activities to be conducted by the applicant over a 5-year period.

Applicant: U.S. Geological Survey/National Wildlife Health Center, Honolulu, HI; PRT-105568

The applicant requests renewal of a permit to import multiple shipments of biological samples collected from wild, captive-held, and captive-born specimens of endangered wildlife species for the purpose of scientific research. No animals may be intentionally killed for the purpose of collecting samples. All invasively collected samples can only be collected by trained personnel. This notification covers activities to be conducted by the applicant over a 5-year period.

Applicant: U.S. Fish and Wildlife Service, Mexican Wolf Reintroduction Project, Region 2, Albuquerque, NM; PRT-001904

The applicant requests renewal of a permit to import live Mexican or lobo wolves (Canis lupus baileyi) for breeding and reintroduction, as well as the import of biological samples for genetic studies, for the purpose of enhancement of the survival of the species and scientific research. This notification covers activities to be conducted by the applicant over a 5-year period.

Applicant: Gatti Productions, Inc., Orange, CA; PRT-055424 and 055426

The applicant requests the re-issuance of permits for the re-export and re-import of two wild born Asian elephants (Elephas maximus) to and from worldwide locations for the purpose of enhancement of the species through conservation education. The permit numbers and animals are: 055424, Tiki and 055426, Debbie. This notification covers activities to be conducted by the applicant over a 3-year period and the import of any potential progeny born while overseas.

Applicant: Albert Spidle, Bellville, TX; PRT-10399A

The applicant requests a permit to import the sport-hunted trophy of one female scimitar-horned oryx (Oryx dammah) taken in the Republic of South Africa, for the purpose of enhancement of the survival of the species.

Applicant: Albert Spidle, Bellville, TX; PRT-10400A

The applicant requests a permit to import the sport-hunted trophy of one male scimitar-horned oryx (Oryx dammah) taken in the Republic of South Africa, for the purpose of enhancement of the survival of the species.

Applicant: Clarence Johnson, Houston, TX; PRT-15527A

The applicant requests a permit to import a sport-hunted trophy of one male bontebok (Damaliscus pygargus pygargus) culled from a captive herd maintained under the management program of the Republic of South Africa, for the purpose of enhancement of the survival of the species.

Dated: June 25, 2010
Brenda Tapia
Program Analyst, Branch of Permits, Division of Management Authority.

[FR Doc. 2010-16029 Filed 6-30-10; 8:45 am]

BILLING CODE 4310-55-S